DEPARTMENT OF COMMERCE

International Trade Administration

[A-533-843]

Certain Lined Paper Products From India: Extension of Time Limit for the Preliminary Results of Antidumping Duty Administrative Review

AGENCY: Import Administration, International Trade Administration, Department of Commerce.

FOR FURTHER INFORMATION CONTACT: Stephanie Moore or George McMahon, AD/CVD Operations, Office 3, Import Administration, International Trade Administration, U.S. Department of Commerce, 14th Street and Constitution Ave, NW., Washington, DC 20230; telephone: (202) 482-3692 or (202) 482-1167, respectively.

Background

On September 1, 2010, the Department published in the Federal Register the notice of “Opportunity to Request Administrative Review” of this order for the period September 1, 2009, through August 31, 2010. See Antidumping or Countervailing Duty Order, Finding, or Suspended Investigation; Opportunity To Request Administrative Review, 75 FR 53635, (September 1, 2010). On September 30, 2010, we received timely requests for an administrative review from the Association of American School Paper Suppliers (petitioner),¹ in accordance with 19 CFR 351.213(b)(1). On October 28, 2010, we published the notice of initiation. See Initiation of Antidumping and Countervailing Duty Administrative Reviews, 75 FR 66349 (October 28, 2010). The preliminary results of review are currently due June 2, 2011.

¹ Petitioner requested that the Department conduct an administrative review of the following 35 companies: Abhinav Paper Products Pvt. Ltd.; American Scholar, Inc. and/or I-Scholar; Ampoules & Vials Mfg. Co., Ltd.; AR Printing & Packaging (India) Pvt.; Bafna Exports; Cello International Pvt. Ltd. (M/S Cello Paper Products); Corporate Stationery Pvt. Ltd.; Creative Divya; D.D International; Exel India Pvt. Ltd.; Exmart International Pvt. Ltd.; Fatechand Mahendrakumar; FFI International; Freight India Logistics Pvt. Ltd.; International Greetings Pvt. Ltd.; Kejriwal Paper Ltd., and Kejriwal Exports; Lodha Offset Limited; Magic International Pvt. Ltd.; Marigold ExIm Pvt. Ltd.; Marisa International; Navneet Publications (India) Ltd.; Orient Press Ltd.; Paperwise Inc.; Pioneer Stationery Pvt. Ltd.; Premier Exports; Rajvansh International; Riddhi Enterprises; SAB International; Sar Transport Systems; Seet Kamal International; Sonal Printers Pvt. Ltd; Super Impex; Swati Growth Funds Ltd.; V & M; and Yash Laminates.

Extension of Time Limit of Preliminary Results

Section 751(a)(3)(A) of the Tariff Act of 1930, as amended (the Act), requires that the Department make a preliminary determination within 245 days after the last day of the anniversary month of an order for which a review is requested. Section 751(a)(3)(A) of the Act further states that, if it is not practicable to complete the review within the time period specified, the administering authority may extend the 245-day period to issue its preliminary results to up to 365 days.

We determine that completion of the preliminary results of this review within the 245-day period is not practicable for the following reasons. This review requires the Department to gather and analyze a significant amount of information pertaining to each of the company's sales practices, manufacturing costs, and corporate relationships. Furthermore, on May 17, 2011, the Department initiated a sales-below-cost of production investigation of Riddhi Enterprises (Riddhi),² a pro se respondent, pursuant to an allegation submitted by petitioner on May 2, 2011. As a result, the Department will require additional time to receive and analyze Riddhi's Section D questionnaire response. Given the complexity of these issues, and in accordance with section 751(a)(3)(A) of the Act, we are extending the time period for issuing the preliminary results of this review by 120 days. Accordingly, the deadline for the completion of the preliminary results is now September 30, 2011. Unless extended, the final results continue to be due 120 days after the publication of the preliminary results, pursuant to section 751(a)(3)(A) of the Act and 19 CFR 351.213(h)(1).

² The other respondent in this administrative review is Navneet Publications (India) Ltd.

This notice is published pursuant to sections 751(a)(3)(A) and 777(i)(1) of the Act.

Dated: May 20, 2011.
Christian Marsh,
Deputy Assistant Secretary for Antidumping and Countervailing Duty Operations.

[FR Doc. 2011-13244 Filed 5-26-11; 8:45 am]

BILLING CODE 3510-DS-P